SMALL BUSINESS ADMINISTRATION

National Small Business Development Center Advisory Board

AGENCY: U.S. Small Business Administration (SBA).

ACTION: Notice of open Federal Advisory Committee meetings.

SUMMARY: The SBA is issuing this notice to announce the location, date and time and agenda for the 2nd quarter meetings of the National Small Business Development Center (SBDC) Advisory Board.

DATES: The meetings for the 2nd quarter will be held on the following dates:

Tuesday, January 21, 2014 at 1:00 p.m. EST

Tuesday, February 18, 2014 at 1:00 p.m. EST

Tuesday, March 18, 2014 at 1:00 p.m. EST

ADDRESSES: This meeting will be held via conference call.

SUPPLEMENTARY INFORMATION: Pursuant to section 10(a) of the Federal Advisory Committee Act (5 U.S.C. Appendix 2), SBA announces the meetings of the National SBDC Advisory Board. This Board provides advice and counsel to the SBA Administrator and Associate Administrator for Small Business Development Centers.

The purpose of these meetings is to discuss following issues pertaining to the SBDC Advisory Board:

—SBA Update

—Annual Meetings

—Board Assignments

—Member Roundtable

FOR FURTHER INFORMATION CONTACT: The meetings are open to the public however advance notice of attendance is requested. Anyone wishing to be a listening participant must contact Monika Cuff by fax or email. Her contact information is Monika Cuff, Program Specialist, 409 Third Street SW., Washington, DC 20416, Phone, 202-205-7310, Fax 202-481-5624, email, monika.cuff@sba.gov

Additionally, if you need accommodations because of a disability or require additional information, please contact Monika Cuff at the information above.

Diana Doukas,
Committee Management Officer.

[FR Doc. 2013-29875 Filed 12-18-13; 8:45 am]

BILLING CODE 8025-01-M